OFFICE OF GOVERNMENT ETHICS

Agency Information Collection Activities; Information Collection Renewal; Comment Request for OGE Form 319 Request for a Medical Exception to the Covid-19 Vaccination Requirement

AGENCY: Office of Government Ethics (OGE).

ACTION: Notice and request for comments.

SUMMARY: After this first round notice and public comment period, the Office of Government Ethics (OGE) plans to request that the Office of Management and Budget (OMB) renew its approval under the Paperwork Reduction Act for an existing information collection, entitled the OGE Form 319 Request for a Medical Exception to the Covid-19 Vaccination Requirement. The form was originally granted emergency clearance on November 19, 2021.

DATES: Written comments by the public and agencies on this proposed extension are invited and must be received by April 11, 2022.

ADDRESSES: Comments may be submitted to OGE by any of the following methods:

Email: usoge@oge.gov (Include reference to “OGE Form 319 Request for a Medical Exception to the Covid-19 Vaccination Requirement comment” in the subject line of the message.)

Mail, Hand Delivery/Courier: Office of Government Ethics, 1201 New York Avenue NW, Suite 500, Attention: Jennifer Matis, Associate Counsel, Washington, DC 20005-3917.

Instructions: Comments may be posted on OGE's website, www.oge.gov. Sensitive personal information, such as account numbers or Social Security numbers, should not be included. Comments generally will not be edited to remove any identifying or contact information.

FOR FURTHER INFORMATION CONTACT: Jennifer Matis at the U.S. Office of Government Ethics; telephone: 202-482-9216; TTY: 800-877-8339; Email: jmatis@oge.gov. A copy of the form may be obtained, without charge, by contacting Jennifer Matis.

SUPPLEMENTARY INFORMATION: Title: Request for a Medical Exception to the Covid-19 Vaccination Requirement.

Agency Form Number: OGE Form 319.

Abstract: The OGE Form 319 collects information necessary to document the consideration, decision, and implementation of OGE employee requests for reasonable accommodation from the COVID vaccination requirement set forth in Executive Order 14043, Requiring Coronavirus Disease 2019 Vaccination for Federal Employees (Sept. 9, 2021).

OMB Control Number: 3209-0011.

Type of Information Collection: Extension of a currently approved collection.

Type of Review Request: Regular.

Affected public: Medical providers who are asked to provide documentation in support of an employee's request for a medical exception to the requirement for COVID-19 vaccination.

Estimated Annual Number of Respondents: 1 (based on an estimate of five respondents over a ten year period, rounded up).

Estimated Time per Response: 10 minutes.

Estimated Total Annual Cost Burden (in dollars): 17.

Request for Comments: OGE is publishing this first round notice of its intent to request paperwork clearance renewal for the OGE Form 319. Public comment is invited specifically on the need for and practical utility of this information collection, the accuracy of OGE's burden estimate, the enhancement of quality, utility and clarity of the information collected, and the minimization of burden (including the use of information technology). Comments received in response to this notice will be summarized for and included with the OGE request for extension of OMB paperwork approval. The comments will also become a matter of public record.

A Notice Regarding Injunctions: The vaccination requirement issued pursuant to E.O. 14043 is currently the subject of a nationwide injunction. While that injunction remains in place, OGE will not process requests for a medical exception from the COVID-19 vaccination requirement pursuant to E.O. 14043. OGE will also not request the submission of any medical information related to a request for an exception from the vaccination requirement pursuant to E.O. 14043 while the injunction remains in place. But OGE may nevertheless receive information regarding a medical exception. That is because, if OGE were to receive a request for an exception from the COVID-19 vaccination requirement pursuant to E.O. 14043 during the pendency of the injunction, OGE will accept the request, hold it in abeyance, and notify the employee who submitted the request that implementation and enforcement of the COVID-19 vaccination requirement pursuant to E.O. 14043 is currently enjoined and that an exception therefore is not necessary so long as the injunction is in place. In other words, during the pendency of the injunction, any information collection related to requests for medical exception from the COVID-19 vaccination requirement pursuant to E.O. 14043 is not undertaken to implement or enforce the COVID-19 vaccination requirement.

Approved: February 7, 2022.
Emory Rounds,
Director, U.S. Office of Government Ethics.

[FR Doc. 2022-02826 Filed 2-9-22; 8:45 am]

BILLING CODE 6345-03-P